DEPARTMENT OF ENERGY

Federal Energy Regulatory Commission

Combined Notice of Filings #1

Take notice that the Commission received the following electric corporate filings:

Docket Numbers: EC13-60-000.

Applicants: ITC Midwest LLC.

Description: Application Pursuant to Section 203 of the Federal Power Act of ITC Midwest LLC for North Madrid Substation Relay Acquisition.

Filed Date: 1/9/13.

Accession Number: 20130109-5089.

Comments Due: 5 p.m. ET 1/30/13.

Take notice that the Commission received the following electric rate filings:

Docket Numbers: ER09-1224-004.

Applicants: Energy Services, Inc., Entergy Operating Companies.

Description: Entergy Services, Inc. submits compliance filing on behalf of Entergy Operating Companies.

Filed Date: 7/6/12.

Accession Number: 20120706-5098.

Comments Due: 5 p.m. ET 1/23/13.

Docket Numbers: ER10-2794-010; ER10-2849-009; ER11-2028-010; ER12-1825-008.

Applicants: EDF Trading North America, LLC, EDF Industrial Power Services (NY), LLC, EDF Industrial Power Services (IL), LLC, EDF Industrial Power Services (CA), LLC.

Description: Updated Market Power Analysis for the Southwest Power Pool, Inc. Region of EDF Trading North America, LLC, et al.

Filed Date: 1/8/13.

Accession Number: 20130108-5162.

Comments Due: 5 p.m. ET 3/11/13.

Docket Numbers: ER13-17-001.

Applicants: Niagara Wind Power, LLC.

Description: Compliance Filing to be effective 3/11/2013.

Filed Date: 1/9/13.

Accession Number: 20130109-5008.

Comments Due: 5 p.m. ET 1/30/13.

Docket Numbers: ER13-733-000.

Applicants: Silver Bear Power, LLC.

Description: New filing 1 to be effective 3/1/2013.

Filed Date: 1/9/13.

Accession Number: 20130109-5011.

Comments Due: 5 p.m. ET 1/30/13.

Docket Numbers: ER13-734-000.

Applicants: Atlantic Coast Energy Corporation.

Description:Atlantic Coast Energy Corporation submits tariff filing per 35.12: Initial Application for MBR Authority to be effective 1/31/2013.

Filed Date: 1/9/13.

Accession Number: 20130109-5073.

Comments Due: 5 p.m. ET 1/30/13.

Docket Numbers: ER13-735-000.

Applicants: ISO New England Inc.

Description:ISO New England Inc. Resource Termination Filing—Concord.

Filed Date: 1/9/13.

Accession Number: 20130109-5082.

Comments Due: 5 p.m. ET 1/30/13.

Docket Numbers: ER13-736-000.

Applicants: Niagara Mohawk Power Corporation, New York Independent System Operator, Inc.

Description:Niagara Mohawk Power Corporation submits tariff filing per 35.13(a)(2)(iii: LGIA among NiMo, Alliance, AG Power, Seneca and Sterling Power to be effective 6/8/2012.

Filed Date: 1/9/13.

Accession Number: 20130109-5105.

Comments Due: 5 p.m. ET 1/30/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 9, 2013.
Nathaniel J. Davis, Sr.,
Deputy Secretary.

[FR Doc. 2013-00759 Filed 1-15-13; 8:45 am]

BILLING CODE 6717-01-P